ENVIRONMENTAL PROTECTION AGENCY

40 CFR Part 52

[EPA-R06-OAR-2018-0705; FRL-10003-47-Region 6]

Air Plan Approval; New Mexico; Interstate Transport Requirements for the 2008 Ozone NAAQS

AGENCY: Environmental Protection Agency (EPA).

ACTION: Proposed rule; extension of comment period.

SUMMARY: The Environmental Protection Agency (EPA) is extending the comment period for the proposed rule titled “Air Plan Approval; New Mexico; Interstate Transport Requirements for the 2008 Ozone NAAQS” that was published in the Federal Register on December 3, 2019. The proposal provided for a public comment period ending January 2, 2020. The EPA received a request from the public to extend this comment period. The EPA is extending the comment period to a 45-day public comment period ending January 17, 2020.

DATES: The comment period for the proposed rule published December 3, 2019 (84 FR 66098), is extended. Written comments must be received on or before January 17, 2020.

ADDRESSES: Submit your comments, identified by Docket Number EPA-R06-OAR-2018-0705, at http://www.regulations.gov or via email to fuerst.sherry@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact Sherry Fuerst, 214-665-6454, fuerst.sherry@epa.gov. For the full EPA public comment policy, information about CBI or multimedia submissions, and general guidance on making effective comments, please visit https://www.epa.gov/dockets/commenting-epa-dockets.

Docket: The index to the docket for this action is available electronically at www.regulations.gov and in hard copy at the EPA Region 6 Office, 1201 Elm Street, Suite 500, Dallas, Texas. While all documents in the docket are listed in the index, some information may be publicly available only at the hard copy location (e.g., copyrighted material), and some may not be publicly available at either location (e.g., CBI).

FOR FURTHER INFORMATION CONTACT: Sherry Fuerst, 214-665-6454, fuerst.sherry@epa.gov. To inspect the hard copy materials, please schedule an appointment with Ms. Fuerst or Mr. Bill Deese at 214-665-7253.

SUPPLEMENTARY INFORMATION: On December 3, 2019, we published in the Federal Register “Air Plan Approval; New Mexico; Interstate Transport Requirements for the 2008 Ozone NAAQS” addressing ozone interstate transport (84 FR 66098). We received a request for an extension of the comment period and, in response, have decided to allow an additional 15 days. We are extending the comment period to January 17, 2020. This action will allow interested persons additional time to prepare and submit comments.

List of Subjects in 40 CFR Part 52

Environmental protection, Air pollution control, Incorporation by reference, Nitrogen Oxides, Ozone.

Authority: 42 U.S.C. 7401 et seq.

Dated: December 18, 2019.
David Garcia,
Air and Radiation Division Director, Region 6.

[FR Doc. 2019-27865 Filed 12-30-19; 8:45 am]

BILLING CODE 6560-50-P